DEPARTMENT OF THE TREASURY

Office of Foreign Assets Control

Notice of OFAC Sanctions Actions

AGENCY: Office of Foreign Assets Control (OFAC), Treasury.

ACTION: Notice.

SUMMARY: The U.S. Department of the Treasury's Office of Foreign Assets Control is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Actions

On June 17, 2022, OFAC determined that the property and interests in property subject to U.S. jurisdiction of the following persons are blocked under the relevant sanctions authority listed below.

Individual

1. LOPEZ DELGADO, Ruy, Carretera Masaya, Km 6.5, Plaza 800 Mts Sur Lomas Santo Domingo, Casa #6, Managua, Nicaragua; DOB 30 Jun 1949; POB Managua, Nicaragua; nationality Nicaragua; Gender Male; Passport C01850896 (Nicaragua) issued 11 May 2015 expires 11 May 2025; National ID No. 0013006490003J (Nicaragua) (individual) [NICARAGUA].

Designated pursuant to section 1(a)(iii) of Executive Order 13851 of November 27, 2018, “Blocking Property of Certain Persons Contributing to the Situation in Nicaragua (“E.O. 13851”), for being an official of the Government of Nicaragua or having served as an official of the Government of Nicaragua at any time on or after January 10, 2007.

Entity

1. EMPRESA NICARAGUENSE DE MINAS (a.k.a. ENIMINAS), Residencial Bolonia, de la Embajada Alemania, 2 cuadras Oeste, 1 cuadra Norte, Managua, Nicaragua; Organization Established Date 2017; Organization Type: Mining of other non-ferrous metal ores; Target Type State-Owned Enterprise [NICARAGUA] (Linked To: LOPEZ DELGADO, Ruy).

Designated pursuant to section 1(a)(v) of E.O. 13851, for being owned or controlled by, or having acted or purported to act for or on behalf of, directly or indirectly, Ruy DELGADO LOPEZ, a person whose property and interests in property are blocked pursuant to E.O. 13851.

Dated: June 17, 2022.
Bradley T. Smith,
Deputy Director, Office of Foreign Assets Control, U.S. Department of the Treasury.

[FR Doc. 2022-13432 Filed 6-22-22; 8:45 am]

BILLING CODE 4810-AL-P